DEPARTMENT OF COMMERCE

National Oceanic and Atmospheric Administration

50 CFR Part 648

[Docket No. 070427094-7113-02, I.D. 042407A]

RIN 0648-AV50

Magnuson-Stevens Fishery Conservation and Management Act Provisions; Fisheries of the Northeastern United States; Northeast Multispecies Fishery; Allocation of Trips in the Closed Area II Yellowtail Flounder Special Access Program

AGENCY: National Marine Fisheries Service (NMFS), National Oceanic and Atmospheric Administration (NOAA), Commerce.

ACTION: Final rule; allocation of trips.

SUMMARY: NMFS announces that the Administrator, Northeast Region, NMFS (Regional Administrator), has allocated zero trips to the Closed Area (CA) II Yellowtail Flounder Special Access Program (SAP) during the 2007 fishing year (FY) (i.e., May 1, 2007, through April 30, 2008). The Regional Administrator has determined that the available catch of Georges Bank (GB) yellowtail flounder is insufficient to support a minimum level of fishing activity within the CA II Yellowtail Flounder SAP for FY 2007. The intent of this action is to help achieve optimum yield (OY) in the fishery by maximizing the utility of available GB yellowtail flounder total allowable catch (TAC) throughout FY 2007.

DATES: Effective July 1, 2007 through April 30, 2008.

ADDRESSES: Copies of the final rule implementing the FY 2007 TAC for GB yellowtail flounder in the U.S./Canada Management Area are available upon request from the NE Regional Office at the following mailing address: George H. Darcy, Assistant Regional Administrator for Sustainable Fisheries, NMFS, Northeast Regional Office, 1 Blackburn Drive, Gloucester, MA 01930. Copies may also be requested by calling (978) 281-9315.

FOR FURTHER INFORMATION CONTACT: Mark Grant, Fishery Management Specialist, phone: (978) 281-9145, fax: (978) 281-9135, e-mail: Mark.Grant@noaa.gov.

SUPPLEMENTARY INFORMATION: Framework Adjustment (FW) 40B (70 FR 31323; June 1, 2005), requires the Regional Administrator annually allocate the total number of trips into the CA II Yellowtail Flounder SAP. A formula was developed in FW 40B to assist the Regional Administrator in determining the appropriate number of trips for this SAP on a yearly basis. The FY 2007 calculations for this equation were detailed in the proposed rule (72 FR 26770; May 11, 2007) and are not repeated here.

FW 40B authorized the Regional Administrator to allocate zero trips to this SAP if the available GB yellowtail flounder catch is not sufficient to support 150 trips with a 15,000-lb (6,804-kg) trip limit (i.e., if the available GB yellowtail catch is less than 1,021 mt), as required. Using the formula developed in FW 40B and based on the 900-mt U.S./Canada GB yellowtail flounder TAC for 2007 (72 FR 25709; May 7, 2007), the Regional Administrator has determined that there will be insufficient GB yellowtail flounder TAC to support the CA II Yellowtail Flounder SAP for FY 2007. Therefore, zero trips are allocated to the SAP for FY 2007.

Comments and Responses

Two comments were received on this action.

Comment 1: One commenter did not specifically address the proposed allocation of trips, but asserted that all of GB should be closed permanently because it has been denuded of all fish species.

Response: Amendment 13 (69 FR 22906; April 27, 2004) to the NE Multispecies Fishery Management Plan (FMP) implemented a rebuilding plan for all overfished stocks managed under the FMP. Included in this rebuilding plan was the CA II Yellowtail Flounder SAP. The Environmental Impact Statement for Amendment 13 determined that this SAP has minimal negative impacts to the GB yellowtail flounder stock, neutral impacts on Essential Fish Habitat, and negligible impacts on other stocks managed by the FMP. The current regulatory restrictions in place are designed to protect and rebuild fish stocks in accordance with applicable laws; therefore, it is not necessary to close BG to fishing in order to rebuild fish stocks.

Comment 2: Another commenter did not specifically address the proposed allocation of trips, but asserted that GB yellowtail flounder trip limits in the Western U.S./Canada Area were preventing the harvest of GB haddock.

Response: the GB yellowtail flounder TAC for FY 2007 is greatly reduced (57 percent less than FY 2006). For this reason, allowing any trips into this SAP will likely result in fully harvesting the TAC prior to the end of the fishing year, resulting in a possession ban for GB yellowtail flounder, premature closure of the entire Eastern U.S./Canada Area to all NE multispecies DAS vessels, and reduced opportunities to fully harvest the GB haddock and GD cod TACs in the Eastern U.S./Canada Area. NMFS is allocating zero trips to this SAP to help achieve OY in the U.S./Canada Area by maximizing the utility of available GB yellowtail flounder TAC throughout FY 2007.

Classification

The Regional Administrator has determined that this action is necessary for the conservation and management of the NE multispecies fishery and that it is consistent with the Magnuson-Stevens Fishery Conservation and Management Act and other applicable laws.

This final rule has been determined to be not significant for the purposes of Executive Order 12866.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

This final rule does not contain any new, nor revises existing reporting, recordkeeping, and other compliance requirements.

Authority: 16 U.S.C. 1801 et seq.

Dated: May 31, 2007.
William T. Hogarth,
Assistant Administrator for Fisheries, National Marine Fisheries Service.

[FR Doc. 07-2813 Filed 6-1-07; 2:46 pm]

BILLING CODE 3510-22-M